DEPARTMENT OF ENERGY

Federal Energy Regulatory Commission

Notice of Technical Conference

| Project No.
FFP Missouri 12, LLC | 13755-002
FFP Missouri 5, LLC | 13757-002
FFP Missouri 6, LLC | 13761-002
Solia 6 Hydroelectric, LLC | 13768-002

On Wednesday, April 6, 2016, Commission staff will hold a technical conference to discuss cultural resources related to Rye Development, LLC's proposed Allegheny Lock and Dam No. 2 Hydroelectric Project No. 13755, Emsworth Locks and Dam Hydroelectric Project No. 13757, Emsworth Back Channel Dam Hydroelectric Project No. 13761, and Montgomery Locks and Dam Hydroelectric Project No. 13768.

The technical conference will begin at 2:00 p.m. Eastern Standard Time. The conference will be held at the Federal Energy Regulatory Commission headquarters building located at 888 1st Street NE., Washington, DC, and will include teleconference capabilities.

All local, state, and federal agencies, Indian tribes, and other interested parties are invited to participate. There will be no transcript of the conference, but a summary of the meeting will be prepared for the project record. If you are interested in participating in the meeting you must contact Allyson Conner at (202) 502-6082 or allyson.conner@ferc.gov by April 4, 2016 to receive specific instructions on how to participate.

Dated: March 22, 2016.
Nathaniel J. Davis, Sr.,
Deputy Secretary.

[FR Doc. 2016-07232 Filed 3-30-16; 8:45 am]

BILLING CODE 6717-01-P